DEPARTMENT OF COMMERCE

International Trade Administration

[A-570-932]

Certain Steel Threaded Rod From the People's Republic of China: Final Results of Antidumping Duty Administrative Review and Final Determination of No Shipments; 2018-2019

AGENCY: Enforcement and Compliance, International Trade Administration, Department of Commerce.

SUMMARY: The Department of Commerce (Commerce) continues to determine that two companies under review had no shipments of subject merchandise during the period of review (POR) April 1, 2018 through March 31, 2019. Additionally, Commerce continues to determine that the remaining companies subject to this review are part of the China-wide entity because they failed to file no shipment statements, separate rate applications, or separate rate certifications.

DATES: Applicable May 5, 2020.

FOR FURTHER INFORMATION CONTACT: Benito Ballesteros, AD/CVD Operations, Office V, Enforcement and Compliance, International Trade Administration, U.S. Department of Commerce, 1401 Constitution Avenue NW, Washington, DC 20230; telephone: (202) 482-7425.

SUPPLEMENTARY INFORMATION:

Background

On December 30, 2019, Commerce published the Preliminary Results of the administrative review of the antidumping duty order on certain steel threaded rod from the People's Republic of China (China).¹ We invited parties to submit comments on the Preliminary Results. No party submitted comments. Accordingly, the final results remain unchanged from the Preliminary Results.

¹ See Certain Steel Threaded Rod from the People's Republic of China: Preliminary Results of the Antidumping Duty Administrative Review and Preliminary Determination of No Shipments; 2018-2019, 84 FR 71900 (December 30, 2019) (Preliminary Results), and accompanying Preliminary Decision Memorandum.

Scope of the Order

The merchandise covered by the order is steel threaded rod. Steel threaded rod is certain threaded rod, bar, or studs, of carbon quality steel, having a solid, circular cross section, of any diameter, in any straight length, that have been forged, turned, cold-drawn, cold-rolled, machine straightened, or otherwise cold-finished, and into which threaded grooves have been applied. In addition, the steel threaded rod, bar, or studs subject to the order are non-headed and threaded along greater than 25 percent of their total length. A variety of finishes or coatings, such as plain oil finish as a temporary rust protectant, zinc coating (i.e., galvanized, whether by electroplating or hot-dipping), paint, and other similar finishes and coatings, may be applied to the merchandise.

Included in the scope of the order are steel threaded rod, bar, or studs, in which: (1) Iron predominates, by weight, over each of the other contained elements; (2) the carbon content is 2 percent or less, by weight; and (3) none of the elements listed below exceeds the quantity, by weight, respectively indicated:

• 1.80 percent of manganese, or

• 1.50 percent of silicon, or

• 1.00 percent of copper, or

• 0.50 percent of aluminum, or

• 1.25 percent of chromium, or

• 0.30 percent of cobalt, or

• 0.40 percent of lead, or

• 1.25 percent of nickel, or

• 0.30 percent of tungsten, or

• 0.012 percent of boron, or

• 0.10 percent of molybdenum, or

• 0.10 percent of niobium, or

• 0.41 percent of titanium, or

• 0.15 percent of vanadium, or

• 0.15 percent of zirconium.

Steel threaded rod is currently classifiable under subheadings 7318.15.5051, 7318.15.5056, 7318.15.5090, and 7318.15.2095 of the United States Harmonized Tariff Schedule (HTSUS). Although the HTSUS subheading is provided for convenience and customs purposes, the written description of the merchandise is dispositive.

Excluded from the scope of the order are: (a) Threaded rod, bar, or studs which are threaded only on one or both ends and the threading covers 25 percent or less of the total length; and (b) threaded rod, bar, or studs made to American Society for Testing and Materials (ASTM) A193 Grade B7, ASTM A193 Grade B7M, ASTM A193 Grade B16, or ASTM A320 Grade L7.

Final Determination of No Shipments and Status of the China-Wide Entity

Commerce preliminarily found that Certified Products International Inc. (CPI) and RMB Fasteners Ltd. and IFI & Morgan Ltd. (collectively, RMB/IFI) had no shipments of subject merchandise to the United States during the POR. As noted in the Preliminary Decision Memorandum, we received no shipment statements from CPI and RMB/IFI, and these statements were consistent with the information we received from U.S. Customs and Border Protection (CBP).²

² See Preliminary Decision Memorandum at 3-4.

No party commented on our preliminary no shipment finding with respect to CPI and RMB/IFI, and no party submitted record evidence that calls this finding into question. Therefore, for these final results, we continue to find that CPI and RMB/IFI did not have any shipments of subject merchandise to the United States during the POR.

In addition, we continue to find that the remaining 172 companies subject to this administrative review are part of the China-wide entity because they failed to file no-shipment statements, separate rate applications, or separate rate certifications.³ Because no party requested a review of the China-wide entity, and we did not self-initiate a review, the China-wide entity rate (i.e., 206.00 percent) ⁴ is not subject to change as a result of this review.⁵

³ See Appendix I; Preliminary Results, 84 FR at 71900.

⁴ See Certain Steel Threaded Rod from the People's Republic of China: Final Determination of Sales at Less Than Fair Value, 74 FR 8907 (February 27, 2009).

⁵ See Antidumping Proceedings: Announcement of Change in Department Practice for Respondent Selection in Antidumping Duty Proceedings and Conditional Review of the Nonmarket Economy Entity in NME Antidumping Duty Proceedings, 78 FR 65963 (November 4, 2013).

Assessment Rates

We have not calculated any assessment rates in this administrative review. Based on record evidence, we have determined that CPI and RMI/IFI had no shipments of subject merchandise and, therefore, pursuant to Commerce's assessment practice, any suspended entries that entered under their case numbers will be liquidated at the China-wide entity rate.⁶

⁶ See Non-Market Economy Antidumping Proceedings: Assessment of Antidumping Duties, 76 FR 65694 (October 24, 2011).

For all remaining companies subject to this review, which are part of the China-wide entity, we will instruct CBP to liquidate their entries at the current rate for the China-wide entity (i.e., 206.00 percent). Commerce intends to issue assessment instructions to CBP 15 days after the publication date of the final results of this administrative review.

Cash Deposit Requirements

The following cash deposit requirements will be effective upon publication of the final results of this administrative review for all shipments of the subject merchandise from China entered, or withdrawn from warehouse, for consumption on or after the publication date of this notice, as provided by section 751(a)(2)(C) of the Act: (1) For previously investigated or reviewed Chinese and non-Chinese exporters that received a separate rate in a prior segment of this proceeding, the cash deposit rate will continue to be the existing exporter-specific rate published for the most recently completed period; (2) for all Chinese exporters of subject merchandise that have not been found to be entitled to a separate rate, the cash deposit rate will be the China-wide rate of 206.00 percent; and (3) for all non-Chinese exporters of subject merchandise which have not received their own rate, the cash deposit rate will be the rate applicable to the Chinese exporter that supplied that non-Chinese exporter. These deposit requirements, when imposed, shall remain in effect until further notice.

Disclosure

Normally, Commerce discloses to interested parties the calculations performed in connection with the final results within five days of its public announcement, or if there is no public announcement, within five days of the date of publication of this notice in accordance with 19 CFR 351.224(b). However, because the companies under review either have no reviewable shipments or are part of the China-wide entity, there are no calculations to disclose.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

We are issuing and publishing these final results in accordance with sections 751(a)(1) and 777(i) of the Act, and 19 CFR 351.213(h).

Dated: April 29, 2020.
Jeffrey I. Kessler,
Assistant Secretary for Enforcement and Compliance.

Appendix I

Companies Not Granted a Separate Rate

1. Aerospace Precision Corp. (Shanghai) Industry Co., Ltd.

2. Aihua Holding Group Co. Ltd.

3. Autocraft Industry (Shanghai) Ltd.

4. Autocraft Industry Ltd.

5. Billion Land Ltd.

6. Billion Technology Ltd.

7. Billiongold Hardware Co. Ltd.

8. BOLT Mfg. Trade Ltd.

9. Brighton Best International (Taiwan) Inc.

10. Brother Holding Group Co. Ltd.

11. C and H International Corporation

12. Catic Fujian Co., Ltd.

13. Cci International Ltd.

14. Century Distribution Systems Inc.

15. Changshu City Standard Parts Factory

16. China Friendly Nation Hardware Technology Limited

17. D.M.D. International Co. Ltd.

18. Da Cheng Hardware Products Co., Ltd.

19. Dalian Xingxin Steel Fabrication

20. Dongxiang Accuracy Hardware Co., Ltd.

21. Ec International (Nantong) Co. Ltd.

22. Fastco (Shanghai) Trading Co., Ltd.

23. Fasten International Co., Ltd.

24. Fastenal Canada Ltd.

25. Fastwell Industry Co. Ltd.

26. Fook Shing Bolts & Nuts Co. Ltd.

27. Fuda Xiongzhen Machinery Co., Ltd.

28. Fuller Shanghai Co. Ltd.

29. Gem-Year Industrial Co. Ltd.

30. Guangdong Honjinn Metal & Plastic Co., Ltd.

31. Hainan Zhongyan United Development Co.

32. Haining Hifasters Industrial Co.

33. Haining Shende Imp. & Exp. Co. Ltd.

34. Haining Zhongda Fastener Co., Ltd.

35. Haiyan Ai&Lun Standard Fastener Co.

36. Haiyan Chaoqiang Standard Fastener

37. Haiyan Dayu Fasteners Co., Ltd.

38. Haiyan Evergreen Standard Parts Co. Ltd.

39. Haiyan Fuxin High Strength Fastener

40. Haiyan Hatehui Machinery Hardware

41. Haiyan Hurras Import & Export Co. Ltd.

42. Haiyan Jianhe Hardware Co. Ltd.

43. Haiyan Julong Standard Part Co. Ltd.

44. Haiyan Shangchen Imp. & Exp. Co.

45. Haiyan Yuxing Nuts Co. Ltd.

46. Hangzhou Everbright Imp. & Exp. Co. Ltd.

47. Hangzhou Grand Imp. & Exp. Co., Ltd.

48. Hangzhou Great Imp. & Exp. Co. Ltd.

49. Hangzhou Lizhan Hardware Co. Ltd.

50. Hangzhou Prostar Enterprises Ltd.

51. Hangzhou Tongwang Machinery Co., Ltd.

52. Hilti (China) Ltd.

53. Hong Kong Sunrise Fasteners Co. Ltd.

54. Hong Kong Yichen Co. Ltd.

55. Honoble Precision (China) Mfg.

56. Intech Industries Shanghai Co., Ltd.

57. Jiangsu Innovo Precision Machinery

58. Jiangsu Jinhuan Fastener Co., Ltd.

59. Jiangsu Zhongweiyu Communication Equipment Co. Ltd.

60. Jiashan Steelfit Trading Co. Ltd.

61. Jiashan Zhongsheng Metal Products Co., Ltd.

62. Jiaxing Allywin Mfg. Co., Ltd.

63. Jiaxing Brother Standard Part Co., Ltd

64. Jiaxing Chinafar Standard

65. Jiaxing Jinhow Import & Export Co., Ltd.

66. Jiaxing Sini Fastener Co., Ltd.

67. Jiaxing Xinyue Standard Part Co. Ltd.

68. Jiaxing Yaoliang Import & Export Co. Ltd.

69. Jinan Banghe Industry & Trade Co., Ltd.

70. Kinfast Hardware (Shenzhen) Ltd.

71. King Socket Screw Company Ltd.

72. L&W Fasteners Company

73. Macropower Industrial Inc.

74. Mai Seng International Trading Co., Ltd.

75. MB Services Company

76. Midas Union Co., Ltd.

77. Nanjing Prosper Import & Export Corporation Ltd.

78. Nantong Runyou Metal Products

79. New Pole Power System Co. Ltd.

80. Ningbiao Bolts & Nuts Manufacturing Co.

81. Ningbo Abc Fasteners Co., Ltd.

82. Ningbo Beilun Milfast Metalworks Co. Ltd.

83. Ningbo Beilun Pingxin Hardware Co., Ltd.

84. Ningbo Dexin Fastener Co. Ltd.

85. Ningbo Dongxin High-Strength Nut Co., Ltd.

86. Ningbo Exact Fasteners Co., Ltd.

87. Ningbo Fastener Factory

88. Ningbo Fengya Imp. and Exp. Co. Ltd.

89. Ningbo Fourway Co., Ltd.

90. Ningbo Haishu Holy Hardware Import and Export Co. Ltd.

91. Ningbo Haishu Wit Import & Export Co. Ltd.

92. Ningbo Haishu Yixie Import & Export Co. Ltd.

93. Ningbo Jinding Fastening Piece Co., Ltd.

94. Ningbo MPF Manufacturing Co. Ltd.

95. Ningbo Panxiang Imp. & Exp. Co. Ltd.

96. Ningbo Qianjiu Instrument Case Factory

97. Ningbo Seduno Imp. Exp. Co., Ltd.

98. Ningbo Yili Import & Export Co., Ltd.

99. Ningbo Yinzhou Dongxiang Accuracy Hardware Co., Ltd.

100. Ningbo Yinzhou Foreign Trade Co., Ltd.

101. Ningbo Yinzhou Woafan Industry & Trade Co., Ltd.

102. Ningbo Zhenghai Yongding Fastener Co., Ltd.

103. Ningbo Zhenhai Beisuda Equipment Co.

104. Ningbo Zhenhai Dingli Fastener Screw Co., Ltd.

105. Ningbo Zhenhai Jinhuan Fasteners

106. Ningbo Zhongjiang High Strength Bolts Co. Ltd.

107. Ningbo Zhongjiang Petroleum Pipes & Machinery Co. Ltd.

108. Orient International Holding Shanghai Rongheng Intl Trading Co. Ltd.

109. Orient Rider Corporation Ltd.

110. Panxiang Imp. & Exp. Co., Ltd.

111. Pol Shin Fastener (Zhejiang) Co.

112. Prosper Business and Industry Co., Ltd.

113. Qingdao Free Trade Zone Health Intl.

114. Qingdao Top Steel Industrial Co. Ltd.

115. Sampulse Industrial Co., Ltd.

116. Shaanxi Succeed Trading Co., Ltd.

117. Shanghai Autocraft Co., Ltd.

118. Shanghai Beitra Fasteners Co., Ltd.

119. Shanghai East Best Foreign Trade Co.

120. Shanghai East Best International Business Development Co., Ltd.

121. Shanghai E-Heng Imp. & Exp. Co. Ltd.

122. Shanghai Fortune International Co. Ltd.

123. Shanghai Furen International Trading

124. Shanghai Hunan Foreign Economic Co., Ltd.

125. Shanghai Jiabao Trade Development Co. Ltd.

126. Shanghai Nanshi Foreign Economic Co.

127. Shanghai Overseas International Trading Co. Ltd.

128. Shanghai Prime Machinery Co. Ltd.

129. Shanghai Printing & Dyeing and Knitting Mill

130. Shanghai Printing & Packaging Machinery Corp

131. Shanghai Recky International Trading Co., Ltd.

132. Shanghai Sinotex United Corp. Ltd.

133. Shanghai Strong Hardware Co. Li

134. Shanghai Wisechain Fasteners Ltd.

135. Shenzhen Fenda Technology Co., Ltd.

136. Shenzhen Haozhenghao Technology Co.

137. Shijiazhuang Huitongxiang Li Trade

138. Soyoung Industrial Co., Ltd.

139. SRC Metal (Shanghai) Co. Ltd.

140. Suntec Industries Co., Ltd.

141. Suzhou Henry International Trading Co., Ltd.

142. T and C Fastener Co. Ltd.

143. T and L Industry Co. Ltd.

144. Taizhou Maixing Machinery Co.

145. Telsto Development Co., Ltd.

146. The Hoffman Group International

147. Tianjin Port Free Trade Zone Tianjin Star International Trade Co., Ltd.

148. Tong Ming Enterprise Co., Ltd.

149. Tong Win International Co., Ltd.

150. Tri Steel Co., Ltd.

151. Wisechain Trading Limited

152. Wuxi Metec Metal Co. Ltd.

153. Xiamen Hua Min Imp. and Exp. Co. Ltd.

154. Xiamen Rongxinda Industry Co., Ltd.

155. Xiamen Yuhui Import & Export Co., Ltd.

156. Yogendra International

157. Yuyao Hualun Imp. & Exp. Co., Ltd.

158. Zhangjiagang Ever Faith Industry Co.

159. Zhejiang Heirrmu Mechanical and Electrical Equipment Manufacturing Co Ltd.

160. Zhejiang Heiter Industries Co., Ltd,

161. Zhejiang Heiter Mfg & Trade Co. Ltd.

162. Zhejiang Jin Zeen Fasteners Co. Ltd.

163. Zhejiang Junyue Standard Part Co., Ltd.

164. Zhejiang Junyue Standard Parts Co., Ltd.

165. Zhejiang Laibao Precision Technology Co. Ltd.

166. Zhejiang Metals & Minerals Imp & Exp Co. Ltd.

167. Zhejiang Morgan Brother Technology Co. Ltd.

168. Zhejiang New Century Imp & Exp Co. Ltd.

169. Zhejiang New Oriental Fastener Co., Ltd.

170. Zhejiang Zhenglian Industry Development Co., Ltd.

171. Zhongsheng Metal Co., Ltd.

172. Zhoushan Zhengyuan Standard Parts Co., Ltd.

[FR Doc. 2020-09583 Filed 5-4-20; 8:45 am]

BILLING CODE 3510-DS-P